DEPARTMENT OF THE INTERIOR

National Park Service

60-Day Notice of Intention To Request Clearance of Collection of Information; Opportunity for Public Comment

AGENCY: Department of the Interior, National Park Service.

ACTION: Notice and request for comments.

SUMMARY: Under the provisions of the Paperwork Reduction Act of 1995 and 5 CFR part 1320, Reporting and Record Keeping Requirements, the National Park Service (NPS) invites public comments on a proposed new collection of information (1024-xxxx).

DATES: Public comments will be accepted on the proposed Information Collection Request (ICR) on or before May 12, 2008.

ADDRESSES: Send Comments To: Dr. Susan A. Crate, co-PI, Department of Environmental Science and Policy, George Mason University, 4400 University Drive, MS 5F2, Fairfax, Virginia 22030; or via phone at 703/993-1517; or via fax at 703/993-1066; or via e-mail at pogogmu@gmu.edu. Also, you may send comments to Leonard Stowe, NPS Information Collection Clearance Officer, 1849 C St., NW. (2605), Washington, DC 20240; or via e-mail at leonard stow@nps.gov. All responses to this notice will be summarized and included in the request for the Office of Management and Budget (OMB) approval. All comments will become a matter of public record.

To Request a Draft of Proposed Collection of Information, Contact Dr. Susan A. Crate, co-PI, Department of Environmental Science and Policy, George Mason University, 4400 University Drive, MS 5F2, Fairfax, Virginia 22030; or via phone at 703/993-1517; or via fax at 703/993-1066; or via e-mail at pogogmu@gmu.edu.

FOR FURTHER INFORMATION CONTACT: Dr. James Gramann, NPS Social Science Program, 1201 “Eye” St., Washington, DC 20005; or via phone 202/513-7189; or via e-mail James_Gramann@partner.nps.gov. You are entitled to a copy of the entire ICR package free of charge once the package is submitted to OMB for review. You can access this ICR at www.reginfo.gov/public/.

SUPPLEMENTARY INFORMATION: Title: Potomac Gorge Survey.

Bureau Form Number: None.

OMB Number: To be requested.

Expiration Date: To be requested.

Type of Request: New Collection.

Description of Need: The Potomac Gorge is a IS-mile stretch along the Potomac River, crossing jurisdictions in the states of Maryland, Virginia, and the District of Columbia. Public parkland in the Gorge includes the NPS's Chesapeake and Ohio Canal National Historical Park and George Washington Memorial Parkway. The Nature Conservancy and Potomac Conservancy own and protect areas in the Gorge. In addition, other public and private lands are included in the 10,000-acre area. The Gorge is one of the country's most biologically diverse areas, home to more than 1,400 plant species. The NPS has documented at least 30 distinct natural vegetation communities, several of which are globally rare and imperiled. The Potomac Gorge Site Conservation Plan (SCP), developed by the NPS and The Nature Conservancy, identifies conservation targets, analyzes threats to these targets, and presents strategies for mitigating environmental problems currently observed in the Potomac Gorge. Identified threats include both internal impacts inherent to a heavily visited area and external drivers originating from densely populated adjacent landscapes. The SCP considered seven conservation targets: Riparian Communities, Groundwater Invertebrates, Terrace Communities, Anadromous Fish, Upland Forest, Tributary Stream Systems, and Wetlands. Of these conservation targets, only tributary stream systems hold a “Very High” threat status. Therefore, promoting Best Management Practices among neighbors of the Potomac Gorge to improve water quality in tributary streams is one of the priority actions in the SCP.

To better understand and mitigate the tributary stream threats, the Potomac Gorge Survey will gather information that will improve the understanding of NPS personnel as to the behaviors of local land owners that affect water quality in tributary streams and the socio-demographic characteristics that are associated with particular behaviors. The survey will be administered to a stratified random sample of residents in the Potomac Gorge watershed. The Potomac Gorge Survey includes questions relating to residents' choice of land use practices and behaviors that affect water resources in the Gorge, and residents' demographic profiles, mobility, information, attitudes, and beliefs. Survey data will be analyzed using statistical analysis to investigate the responsiveness of residents' environmental attitudes and behaviors to changes in demographic, cultural, and informational drivers of behavior. This pilot project will identify priorities for future work within the Potomac Gorge as well as provide a generalized application in social science issues confronting the National Parks as a whole. Landowner participation to respond is voluntary.

Automated data collection: This information will be collected primarily via telephone surveys with an option for those contacted to complete the survey on the internet, if preferred. No automated data collection will take place.

Description of respondents: Respondents will be among a random sample of watershed residents stratified by zip code.

Estimated average number of respondents: 400 respondents.

Estimated average number of responses: 400 responses.

Estimated average burden hours per response: 1 minute for non-respondents and 20 minutes for respondents.

Frequency of Response: 1 time per respondent.

Estimated annual reporting burden: 3,433 hours.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: March 5, 2008.
Leonard E. Stowe,
NPS, Information Collection Clearance Officer.

[FR Doc. E8-4880 Filed 3-12-08; 8:45 am]

BILLING CODE 4312-52-M